DEPARTMENT OF LABOR

Mine Safety and Health Administration

30 CFR Parts 42, 47, 56, 57, and 77

RIN 1219-AA47

Hazard Communication

AGENCY: Mine Safety and Health Administration (MSHA), Labor.

ACTION: Interim final rule; delay of effective date; re-opening of record; notice of public hearings; close of record.

SUMMARY: MSHA is delaying the effective date, re-opening the record, and holding additional public hearings on the interim final rule for hazard communication (HazCom). We are re-opening the record on our interim final rule to provide interested persons an additional opportunity to comment on any issue relevant to the rulemaking. Several commenters expressed concern that they had not had sufficient time to fully analyze the interim final rule and to develop and submit meaningful comments. This action also will assure that operators have sufficient time to determine what is necessary for compliance.

DATES: The effective date of the interim final rule published on October 3, 2000 (65 FR 59048) is delayed from October 3, 2001 until June 30, 2002.

Comment Deadline and Close of Record: October 17, 2001.

Public Hearings: September 25, 27, October 2, 4, 10, 2001.

ADDRESSES: You may use mail, electronic mail, or facsimile to send your comments to MSHA.

Electronic mail (e-mail): comments@msha.gov.

Facsimile (FAX): MSHA, Office of Standards, Regulations, and Variances, 703-235-5551.

Mail: David L. Meyer, Director, Office of Standards, Regulations, and Variances; MSHA, 4015 Wilson Boulevard, Room 631; Arlington, VA 22203-1984.

Hearings: See supplementary information.

FOR FURTHER INFORMATION CONTACT: David L. Meyer, Director, Office of Standards, Regulations, and Variances, MSHA, 4015 Wilson Boulevard, Arlington, VA 22203-1984. Mr. Meyer can be reached at meyer-david@msha.gov (e-mail), 703-235-1910 (voice), or 703-235-5551 (fax). The interim final rule is on our website at www.msha.gov/hazcom/hazcom.htm.

SUPPLEMENTARY INFORMATION:

I. Information for Public Hearings.

If you wish to make an oral presentation for the record, we encourage you to contact Ms. Yvonne Quinn at the address or phone number above at least 5 days before the hearing date to inform us of your intent to speak and the length of your presentation. Attendees also may make same-day requests to speak.

All public hearings will begin at 9:00 a.m. and continue until all those who had requested in advance to speak have had an opportunity to do so. Any remaining time will be made available for those making same-day requests.

The public hearings will be held as follows:

September 25—Pittsburgh, PA

Hyatt Regency Pittsburgh International Airport, 1111 Airport Boulevard, Pittsburgh, PA, Phone: 724-899-6072

September 27—Beckley, WV

National Mine Health and Safety Academy, 1301 Airport Road, Beaver, WV, Phone: 304-256-3400

October 2—Dallas, TX

Wilson World Hotel and Suites, 4600 West Airport Freeway, Irving, TX, Phone: 972-513-0800

October 2—Salt Lake City, UT

Comfort Suites Airport, 171 North 2100 West, Salt Lake City, UT, Phone: 801-715-8688

October 4—Birmingham, AL

Radisson Hotel, 808 20th Street South, Birmingham, AL, Phone: 205-933-9000

October 4—Reno, NV

Best Western Airport Plaza Hotel & Conference Center, 1981 Terminal Way, Reno, NV, Phone: 775-348-6370

October 10—Evansville, IN

Days Inn Airport, 5701 Highway 41 North, Evansville, IN, Phone: 812-464-1010

II. Background

MSHA published the HazCom interim final rule on October 3, 2000 (65 FR 59048), with an effective date of October 3, 2001. The HazCom interim final rule has been challenged by a number of mine operators and trade associations [U.S. Court of Appeals for the District of Columbia, Nos. 00-1507, 01-1068 (consolidated)]. The United Mine Workers of America and the United Steelworkers of America have intervened in the litigation. We are asking the court to hold the briefing schedule in abeyance pending the outcome of this reopening of the rulemaking record. We hope that the issues in the litigation can either be narrowed or rendered moot by this delay of the effective date and reopening of the record.

In its October 3, 2000 notice, MSHA gave commenters until November 17, 2000, to submit comments on the interim final rule, on their experience under the Occupational Safety and Health Administration's Hazard Communication Standard, and on any changes in the mining industry since the publication of the proposed rule. On December 7, 2000, we notified all commenters and other interested persons of our decision to hold a public hearing in Washington, DC on December 14, 2000. The public notice of the hearing appeared in the Federal Register on December 11, 2000 (65 FR 77292).

MSHA received 22 written comments on the interim final rule and heard testimony from six persons at the public hearing. Commenters objected to what they considered to be an inadequate comment period and an inadequate notice of the hearing. These commenters stated that they did not have sufficient time to fully analyze the impact of the interim final rule which affected their ability to develop and submit meaningful comments. They also stated that many operators were unable to testify at the hearing because they did not have enough time to prepare testimony and make plans to attend the hearing. Although MSHA believes that the comment period and the notice of the public hearing were legally sufficient, we are providing further opportunity for public comment on the interim final rule.

Members of the mining community have also stated that, because this is the first time MSHA promulgated an interim final rule, there is some confusion about their compliance obligations. The National Mining Association and the National Stone, Sand and Gravel Association have asked for a delay in the effective date of the interim final rule until we respond to their previous comments on it.

A delay in the effective date would provide MSHA with an opportunity to—

• Receive any new information that is available from the mining community;

• Promulgate a final rule that would respond to the concerns and comments of the mining community;

• Inform the industry and train inspectors about the final rule requirements to achieve the best possible compliance;

• Prepare training materials and compliance aids, such as model HazCom programs, particularly for small mines; and

• Help industry incorporate HazCom's final rule requirements into their existing health and safety programs.

Between now and October 3, 2001 (the interim final rule's effective date), there is not enough time to re-open the record, hold hearings, promulgate a final rule, and give industry time to comply.

Accordingly, MSHA finds that good cause exists to delay the effective date of the interim final rule to June 30, 2002, without notice and comment. MSHA believes that, under the circumstances described, notice and comment on the delay would be impracticable and contrary to the public interest. Opening the record on the interim final rule for additional public hearings and comment will enhance the Agency's ability to promulgate a final rule that reflects the fullest consideration of the mining community's concerns and promotes the public interest.

Dated: August 23, 2001.
Dave D. Lauriski,
Assistant Secretary of Labor for Mine Safety and Health.

[FR Doc. 01-21784 Filed 8-24-01; 2:56 pm]

BILLING CODE 4510-43-P